DEPARTMENT OF JUSTICE

Notice of Lodging of Proposed Consent Decree Under the Clean Air Act

On May 12, 2015, the Department of Justice lodged a proposed consent decree with the United States District Court for the District of Hawaii in the lawsuit entitled United States v. City and County of Honolulu, Civil Action No. CV 15-00173 BMK.

In this action, the United States filed a complaint under the Clean Air Act alleging violations at the Kapa'a and Kalaheo Sanitary Landfill (“Landfill”) located on the island of Oahu in Hawaii. The United States' complaint alleges violations for the City and County of Honolulu's (“CCH”) failure to timely submit a design plan for a gas collection and control system (“GCCS”) and failure to timely install and operate a GCCS. The consent decree requires CCH to pay a civil penalty in the amount of $875,000 and to implement a Supplemental Environmental Project comprised of the installation and operation of a photovoltaic system at its waste-to-energy facility located on Hanua Street, Kapolei, Hawaii. The consent decree states that, during the period of the negotiations of this consent decree, CCH submitted a GCCS design plan approved by EPA for the Landfill, installed and commenced operation of the GCCS, developed a startup, shutdown and malfunction plan, and submitted a complete application for a Title V covered source permit.

The publication of this notice opens a period for public comment on the consent decree. Comments should be addressed to the Assistant Attorney General, Environment and Natural Resources Division, and should refer to United States v. City and County of Honolulu, D.J. Ref. No. 90-5-2-1-09044/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: http://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $11.00 (25 cents per page reproduction cost) payable to the United States Treasury.

Henry Friedman,
Assistant Section Chief, Environmental Enforcement Section, Environment and Natural Resources Division.

[FR Doc. 2015-11880 Filed 5-15-15; 8:45 am]

BILLING CODE 4410-15-p